ENVIRONMENTAL PROTECTION AGENCY

[FRL-9491-7]

Environmental Economics Advisory Committee Augmented for the Consideration of the Value of Water to the U.S. Economy

AGENCY: Environmental Protection Agency (EPA).

ACTION: Notice.

SUMMARY: The Environmental Protection Agency (EPA or Agency) Science Advisory Board (SAB) Staff Office announces a public teleconference of the augmented SAB Environmental Economics Advisory Committee to provide early advice on the value of water to the United States (U.S.) Economy. The SAB Staff Office also announces the availability of information on committee members and the opportunity for public comment.

DATES: The teleconference will be held on December 5, 2011 from 12:30 p.m. to 5 p.m. (Eastern Time).

ADDRESSES: The public teleconference will be conducted by telephone only.

FOR FURTHER INFORMATION CONTACT: Any member of the public wishing further information regarding this teleconference may contact Mr. Thomas Carpenter, Designated Federal Officer (DFO), SAB Staff Office, by telephone/voice mail at (202) 564-48853 or via email at carpenter.thomas@epa.gov. General information concerning the EPA Science Advisory Board can be found at the EPA SAB Web site at http://www.epa.gov/sab.

SUPPLEMENTARY INFORMATION:

Background: The SAB was established pursuant to the Environmental Research, Development, and Demonstration Authorization Act (ERDAA) codified at 42 U.S.C. 4365, to provide independent scientific and technical peer review, advice, consultation, and recommendations to the EPA Administrator on the technical basis for EPA actions. As a Federal Advisory Committee, the SAB conducts business in accordance with the Federal Advisory Committee Act (FACA) (5 U.S.C. app. 2) and related regulations. Pursuant to FACA and EPA policy, notice is hereby given that the Environmental Economics Advisory Committee Augmented for the Consideration of the Value of Water to the U.S. Economy will hold a public teleconference to provide early advice to assist EPA scope, plan and develop a report on water's contribution to the U.S. economy. The SAB will comply with the provisions of FACA and all appropriate SAB Staff Office procedural policies.

EPA's Office of Water requested SAB provide a consultation on the data, information, and analytical methodology to evaluate the value of water to the U.S. economy and provide a resource for future decision-making. EPA plans to develop a report on the importance of clean water to the U.S. economy. The Agency is seeking advice and comment on topics such as how the availability of clean water may affect patterns of economic development, advantages clean water may provide to different sectors of the economy (i.e., tourism, farming and food production, fishing, manufacturing, infrastructure, housing and energy), and what data are available or needed to support strategic choices. EPA anticipates this effort, when combined with EPA research on the value of water in the United States from nonmarket values (e.g., nonuse values, recreation, etc.), will integrate market and nonmarket economic value information that is critical to support decision-making at multiple scales (e.g., EPA, state, regional, watershed, or local).

Availability of the review materials: The agendas and materials in support of this meeting will be placed on the EPA Web site at http://www.epa.gov/sab in advance of the meeting. For technical questions and information concerning EPA's approach, please contact Mr. John Powers at (202) 564-5776 or powers.john@epa.gov.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit relevant comments pertaining to the group conducting this advisory activity, EPA's charge, or meeting materials. Input from the public to the SAB will have the most impact if it consists of comments that provide specific scientific or technical information or analysis for the SAB to consider. Members of the public wishing to provide comment should contact the Designated Federal Officer for the relevant advisory committee directly.

Oral Statements: In general, individuals or groups requesting an oral presentation at this public meeting will be limited to five minutes per speaker. Interested parties should contact Mr. Thomas Carpenter, DFO, in writing (preferably via email), at the contact information noted above, by November 30, 2011 to be placed on the list of public speakers for the meeting. Written Statements: Written statements should be received in the SAB Staff Office by November 30, 2011 so that the information may be made available to the SAB Panel for their consideration. Written statements should be supplied to the DFO in electronic format via email (acceptable file formats: Adobe Acrobat PDF, WordPerfect, MS Word, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Carpenter at the phone number or email address noted above, preferably at least ten days prior to the meeting, to give EPA as much time as possible to process your request.

Dated: November 4, 2011.
Vanessa T. Vu,
Director, EPA Science Advisory Board Staff Office.

[FR Doc. 2011-29295 Filed 11-10-11; 8:45 am]

BILLING CODE 6560-50-P